DEPARTMENT OF TRANSPORTATION

Federal Aviation Administration

Public Notice for Waiver of Aeronautical Land-Use Assurance; Willoughby Lost Nation Municipal Airport Willoughby, OH

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of two parcels of land; one 1.9020-acre parcel and one 1.2780-acre parcel, totaling approximately 3.18 acres for industrial economical development. Current use and present condition is vacant grassland. There are no impacts to the airport by allowing the airport to dispose of the property. The land was acquired under FAA Project No.: AIP-3-39-0090-0387. Approval does not constitute a commitment by the FAA to financially assist in the sale of the subject airport property nor a determination that all measures covered by the program are eligible for Airport Improvement Program funding from the FAA. The disposition of proceeds from the sale of the airport property will be in accordance with the FAA's Policy and Procedures Concerning the Use of Airport Revenue, published in the Federal Register on February 16, 1999. Together this proposal is for approximately 3.18 acres in total.

In accordance with section 47107(h) of title 49, United States Code, this notice is required to be published in the Federal Register 30 days before modifying the land-use assurance that requires the property to be used for an aeronautical purpose. The proposed land will be used for industrial economical development, which has proven to enhance the economy for many Ohio communities, as well as reduce the financial burden of operating the airport.

The proceeds from the sale of the land will be used for airport improvements and operation expenses at Willoughby Lost Nation Municipal Airport.

DATES: Comments must be received on or before May 25, 2001.

FOR FURTHER INFORMATION CONTACT: Ms. Stephanie R. Swann, Federal Aviation Administration, Great Lakes Region, Detroit Airports District Office, DET ADO-670.5, Willow Run Airport, East, 8820 Beck Road, Belleville, Michigan 48111, (734) 487-7277. Documents reflecting this FAA action may be reviewed at this same location or at Willoughby Lost Nation Municipal Airport, Willoughby, Ohio.

SUPPLEMENTARY INFORMATION: Following are legal descriptions of the property:

North Part

Situated in the City of Willoughby, County of Lake, and State of Ohio, and known as being a part of Original Willoughby Township Lot No. 7 in the Douglas Tract, and also being a part of Sublot No. 38 in the Western Reserve Commerce Park Subdivision as shown by plat recorded in Volume 1, Page 39 of the Lake County Plat Records, and is bounded and described as follows:

Beginning in the northerly line of the Willoughby Industrial Park Subdivision as shown by plat recorded in Volume 1, Page 38, of the Lake County Plat Records at its intersection with the westerly line of land conveyed to the City of Willoughby by instrument recorded in Volume 367, Page 387, of the Lake County Official Records; said point of beginning being located 45.50 feet LEFT of Station 117+56.55 in the centerline of survey of Lost Nation Road as recorded in Volume 18, Page 32 of the Lake County Plat Records;

Thence South 88°26′10″ West, along said northerly line of Willoughby Industrial Park Subdivision, 311.29 feet to an iron pin stake set at the principal place of beginning;

Course I: South 88°26′10″ West continuing along said line, 55.46 feet to an iron pin stake set in the westerly line of grantor's land, being the westerly line of the residue parcel of Bruce and Betty J. Huston recorded in Volume 66, Page 323 of Lake County Official Records;

Course II: Thence North 35°48′58″ East, along said line and along the residue parcel of land in said Sublot No. 38 of Bruce and Betty J. Huston recorded in Volume 442, Page 698 of Lake County Official Records, 659.30 feet to an iron pin stake set in the westerly sideline of Lost Nation Road, as widened;

Course III: Thence South 11°30′00″ West, along said sideline 114.60 feet to the northerly line of said land conveyed to the City of Willoughby also being the southerly line of said Sublot No. 38;

Course IV: Thence South 88°24′30″ West along the northerly line of said land of the City of Willoughby 0.13 feet to a northwesterly corner;

Course V: Thence South 2°55′56″ West, along a westerly line of said land of the City of Willoughby, 150.82 feet to an iron pin stake set;

Course VI: Thence South 50°01′12″ West, 416.99 feet to the principal place of beginning and containing 1.278 acres of land according to a survey made in December, 2000 by Richard J Bilski, Ohio Professional Surveyor No. 5244 of CT Consultants, Inc., Registered Engineers and Surveyors.

Bearings used herein are based upon the bearing of the centerline of Lost Nation Road as recorded in Volume 367, Page 387, of the Lake County Official Records.

South Part

Situated in the City of Willoughby, County of Lake and State of Ohio and known as being part of Sublot No. 1 and all of Sublot No. 2 in the Willoughby Industrial Park Subdivision as shown recorded in Volume 1, Page 38 of Lake County Plat Records and is further bound and described as follows:

Beginning at the intersection of the northerly line of said Sublot No. I with the westerly line of land conveyed to the City of Willoughby by deed recorded in Volume 367, Page 387 of Lake County Official Records, said point of beginning being 45.50 feet left of Station 117+56.55 in the centerline survey of Lost Nation Road as recorded in Volume 18, Page 32 of Lake County Plat Records;

Thence South 88°26′10″ West, along said northerly line of Sublot No. 1, 311.29 feet to an iron pin set at the principal place of beginning;

Course I: Thence South 50°01′12″ West, 17.36 feet to an iron pin stake set;

Course II: Thence South 45°41′26″ East, 387.44 feet to an iron pin stake set in the northerly Sideline of Willoughby Parkway, 70 feet wide;

Course III: Thence South 88°26′10″ West, along said sideline, 255.80 feet to a point of curve;

Course IV: Thence westerly along said sideline on an arc deflecting to the left said arc having a radius of 795-72 feet and a chord of 108.11 which bears North 87°40′07″ West 108.19 feet to a point;

Course V: Thence North 83°46′24″ West, continuing along said sideline, 67.05 feet to an iron pin stake set in the easterly line of Sublot No. 3 in said subdivision;

Course VI: Thence North 1°33′50″ West, along said line of Sublot No. 3, 272.46 feet to an iron pin stake set in the northerly line of said subdivision, being also the southerly line of land conveyed to Bruce and Betty J. Huston by deed recorded in Volume 66, Page 323 of Lake County Official Records;

Course VII: Thence North 88°26′10″ East, along said line 173.93 feet to the principal place of beginning and containing 1.902 acres of land according to a survey made in December, 2000 by Richard J. Bilski, Ohio Professional Surveyor No. 5244 of CT Consultants, Inc., Registered Surveyors and Engineers.

Bearings used herein are based upon the bearing of the centerline of Lost Nation Road as recorded in Volume 367, Page 387, of the Lake County Official Records.

Issued in Belleville, Michigan, April 2, 2001.
Irene Porter,
Manager, Detroit Airports District Office Great Lakes Region.

[FR Doc. 01-10136 Filed 4-24-01; 8:45 am]

BILLING CODE 4910-13-M